DEPARTMENT OF TRANSPORTATION

Office of the Secretary

Notice of Applications for Certificates of Public Convenience and Necessity and Foreign Air Carrier Permits Filed Under Subpart B (Formerly Subpart Q) During the Week Ending November 30, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0086.

Date Filed: November 27, 2007.

Due Date for Answers, Conforming Applications, or Motion to Modify Scope:

December 18, 2007.

Description: Application of Continental Airlines, Inc. requesting a certificate of public convenience and necessity authorizing it to provide scheduled foreign air transportation of persons, property and mail between a point or points in the United States and a point or points in the Dominican Republic.

Renee V. Wright,
Program Manager, Docket Operations, Federal Register Liaison.

[FR Doc. E8-5542 Filed 3-18-08; 8:45 am]

BILLING CODE 4910-9X-P